DEPARTMENT OF COMMERCE

National Oceanic and Atmospheric Administration

RIN 0648-XW15

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a meeting of the Standing, Special Reef Fish and Special Red Drum Scientific and Statistical Committees.

DATES: The meeting will convene at 9 a.m. on Wednesday, May 19, 2010 and conclude by 3 p.m. on Friday, May 21, 2010.

ADDRESSES: The meeting will be held at the Gulf of Mexico Fishery Management Council, 2203 North Lois Avenue, Suite 1100, Tampa, FL 33607; telephone: (813) 348-1630.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The Committee will meet to discuss a number of issues related to the development of Reef Fish Amendment 32 (gag rebuilding and gag and red grouper adjustments to annual catch limits) and the Generic Annual Catch Limits/Accountability Measures (ACL/AM) Amendment. During part of the meeting, the Standing SSC will meet jointly with the Special Red Drum SSC to review available information to determine if a red drum acceptable biological catch (ABC) can be established in the exclusive economic zone (EEZ). The remainder of the meeting will be a joint meeting of the Standing and Special Reef Fish SSC. The SSC will (1) review updated yield projections for gag and red grouper that incorporate 2009 landings data and will re-evaluate their ABC recommendations for these stocks based on the new information; (2) review a decision-making spreadsheet being prepared by the Southeast Regional Office for analyses of combinations of bag limits, closed seasons, minimum size limits and slot limits for the recreational gag fishery to determine if use of the spreadsheet represents the best available scientific information when evaluating potential management measures; (3) review a critique by the Southeast Fisheries Science Center of a species groupings analyses prepared by the Southeast Regional Office, and will consider possible revisions to the proposed species groupings for purposes of setting annual catch limits; (4) develop a strategy for assigning ABCs to species and species groupings that require an ABC under the Generic ACL/AM Amendment; (5) continue the process of developing an ABC control rule for assigning future ABCs; (6) review tentative ABC values used by the Council on an interim basis in order to develop alternatives for allowable octocorals, stone crab claws, royal red shrimp, and the Peneid shrimp species in the Generic ACL/AM Amendment options paper; and (7) discuss possible strategies to resolve differences between the Gulf Council SSC and the South Atlantic Council SSC in ABC recommendations for the black grouper stock, which straddles jurisdictional boundaries.

Copies of the agenda and other related materials can be obtained by calling (813) 348-1630 or can be downloaded from the Council's ftp site, ftp.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Tina O'Hern at the Council (see ADDRESSES) at least 5 working days prior to the meeting.

Dated: April 27, 2010.
William D. Chappell,
Acting Director, Office of Sustainable Fisheries, National Marine Fisheries Service.

[FR Doc. 2010-10184 Filed 4-30-10; 8:45 am]

BILLING CODE 3510-22-S